DEPARTMENT OF THE INTERIOR

Bureau of Ocean Energy Management

[Docket No. BOEM-2016-0054]

Gulf of Mexico (GOM) Outer Continental Shelf (OCS) Central Planning Area (CPA) Oil and Gas Lease Sale 247; MMAA104000

AGENCY: Bureau of Ocean Energy Management (BOEM), Interior.

ACTION: Notice of availability of a final supplemental environmental impact statement.

SUMMARY: BOEM is announcing the availability of a Final Supplemental Environmental Impact Statement (SEIS) for Gulf of Mexico (GOM) Outer Continental Shelf (OCS) Central Planning Area (CPA) Oil and Gas Lease Sale 247. The Final SEIS provides a discussion of potential significant impacts of the proposed action, provides an analysis of reasonable alternatives to the proposed action, and identifies the Bureau's preferred alternative.

The Final SEIS is available on the agency Web site at http://www.boem.gov/nepaprocess/. BOEM will primarily distribute digital copies of the Final SEIS on compact discs. You may request a paper copy or the location of a library with a digital copy of the Final SEIS from BOEM, Gulf of Mexico OCS Region, Public Information Office (GM 250C), 1201 Elmwood Park Boulevard, Room 250, New Orleans, Louisiana 70123-2394 (1 800 200-GULF).

FOR FURTHER INFORMATION CONTACT: For more information on the CPA 247 Final SEIS, you may contact Mr. Gary D. Goeke, Bureau of Ocean Energy Management, Gulf of Mexico OCS Region, Office of Environment (GM 623E), 1201 Elmwood Park Boulevard, New Orleans, Louisiana 70123-2394 or by email at cpa247@boem.gov. You may also contact Mr. Goeke by telephone at 504-736-3233.

Authority: This Notice of Availability of a Final Supplemental Environmental Impact Statement is in compliance with the National Environmental Policy Act of 1969, as amended (42 U.S.C. 4231 et seq.), and is published pursuant to 40 CFR 1502.19.

Abigail Ross Hopper,
Director, Bureau of Ocean Energy Management.

[FR Doc. 2016-22212 Filed 9-15-16; 8:45 am]

BILLING CODE 4310-MR-P